DEPARTMENT OF LABOR

Employment and Training Administration

Agency Information Collection Activities; Comment Request; Workforce Innovation and Opportunity Act Joint Quarterly Narrative Performance Report

ACTION: Notice.

SUMMARY: The Department of Labor's (DOL) Employment and Training Administration (ETA) is soliciting comments concerning a proposed extension for the authority to conduct the information collection request (ICR) titled, “Workforce Innovation and Opportunity Act Joint Quarterly Narrative Performance Report.” This comment request is part of continuing Departmental efforts to reduce paperwork and respondent burden in accordance with the Paperwork Reduction Act of 1995 (PRA).

DATES: Consideration will be given to all written comments received by February 6, 2024.

ADDRESSES: A copy of this ICR with applicable supporting documentation, including a description of the likely respondents, proposed frequency of response, and estimated total burden, may be obtained free by contacting Stephanie Pena by telephone at (202) 693-3153 (this is not a toll-free number), TTY 1-877-889-5627 (this is not a toll-free number), or by email at Pena.Stephanie.L@dol.gov.

Submit written comments about, or requests for a copy of, this ICR by mail or courier to the U.S. Department of Labor, Training and Employment Administration, Division of Youth Services, Room NC-4526, 200 Constitution Avenue NW, Washington, DC 20210; by email: Pena.Stephanie.L@dol.gov; or by fax (202) 693-3015.

FOR FURTHER INFORMATION CONTACT: Stephanie Pena by telephone at (202) 693-3153 (this is not a toll-free number) or by email at Pena.Stephanie.L@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The Workforce Innovation and Opportunity Act (WIOA) (29 U.S.C. 3101) authorizes this information collection. This ICR allows ETA's Senior Community Service Employment Program (SCSEP) to perform data validation on data collected and reported to ETA on program activities and outcomes; and provides a streamlined WIOA Joint Quarterly Narrative Performance Report (Joint QNR) for several grant programs. DOL seeks a revision of this ICR to include the following changes: ETA has added the Dislocated Worker Demonstration grants to the list of grant programs which use the Joint QNR; minor edits have been made to the Joint QNR for streamlining and clarification purposes; and for the SCSEP Data Validation, a few non-substantive changes were made.

The Joint QNR provides a detailed account of program activities, accomplishments, and progress toward performance outcomes during the quarter. It also provides information on grant challenges and timeline progress, as well as the opportunity to share success stories. The continued use of a standardized narrative report supports WIOA implementation and the goal of systems alignment and consistency of reporting. This template also helps ensure consistent identification of technical assistance needs across the discretionary grant programs that are reporting on WIOA performance indicators and contributes to improved quality of performance information that ETA receives.

The National Farmworkers Job Program and YouthBuild grants are authorized under the Workforce Innovation and Opportunity Act of 2014, which identified performance accountability requirements for these grants. The WIOA performance indicators and reporting requirements also apply to the Dislocated Worker, Dislocated Worker Demonstration, and Reentry Employment Opportunities Grants. While H-1B and the DOL Office of Apprenticeship grants are not authorized under WIOA, these programs have adopted the WIOA performance indicators and align with WIOA data element definitions and reporting templates to promote consistency across these DOL-funded programs. The Senior Community Service Employment Program, authorized under the Older Americans Act, as amended (Pub. L. 114-144), has also adopted some of the WIOA performance measures and, for this reason has adopted the WIOA Joint QNR.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1320.5(a) and 1320.6.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Workforce Innovation and Opportunity Act Joint Quarterly. Narrative Performance Report.

Form: Quarterly Narrative Performance Report Template (ETA-9179).

OMB Control Number: 1205-0448.

Affected Public: State, Local, and Tribal Governments, Private Sector.

Estimated Number of Respondents: 1,395.

Frequency: Quarterly.

Total Estimated Annual Responses: 4,112.

Estimated Average Time per Response: Joint QNR: 10 hours; SCSEP Data Validation: 40.5 hours.

Estimated Total Annual Burden Hours: 64,951 hours.

Total Estimated Annual Other Cost Burden: $2,166,271.46.

Authority: 44 U.S.C. 3506(c)(2)(A).

Laura Watson,
Deputy Assistant Secretary for Employment and Training, Labor.

[FR Doc. 2023-26919 Filed 12-7-23; 8:45 am]

BILLING CODE 4510-FN-P